COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products and services to be furnished by nonprofit agencies employing persons who are blind or have other severe disabilities.

DATES: Effective Date: 6/8/2009.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

Additions

On 3/13/2009, the Committee for Purchase From People Who Are Blind or Severely Disabled published notice (74 FR 10881-10882) of proposed additions to the Procurement List.

After consideration of the material presented to it concerning capability of qualified nonprofit agencies to provide the products and services and impact of the additions on the current or most recent contractors, the Committee has determined that the product(s) and/or service(s) listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 6532-00-NIB-0018—Pajama Top, Mens, Small, Khaki.

NSN: 6532-00-NIB-0019—Pajama Top, Mens, Medium, Brown.

NSN: 6532-00-NIB-0020—Pajama Top, Mens, Large, Cranberry.

NSN: 6532-00-NIB-0021—Pajama Top, Mens, X-Large, Beige.

NSN: 6532-00-NIB-0022—Pajama Top, Mens, 2X-Large, Hunter Green.

NSN: 6532-00-NIB-0023—Pajama Top, Mens, 3X-Large, Navy Blue.

NSN: 6532-00-NIB-0024—Pajama Top, Mens, 4X-Large, Gray.

NSN: 6532-00-NIB-0025—Pajama Top, Mens, 5X-Large, Green.

NSN: 6532-00-NIB-0026—Pajama Pants, Mens, Small, Khaki.

NSN: 6532-00-NIB-0027—Pajama Pants, Mens, Medium, Brown.

NSN: 6532-00-NIB-0028—Pajama Pants, Mens, Large, Cranberry.

NSN: 6532-00-NIB-0029—Pajama Pants, Mens, X-Large Beige.

NSN: 6532-00-NIB-0030—Pajama Pants, Mens, 2X-Large, Hunter Green.

NSN: 6532-00-NIB-0031—Pajama Pants, Mens, 3X-Large, Navy Blue.

NSN: 6532-00-NIB-0032—Pajama Pants, Mens, 4X-Large, Gray.

NSN: 6532-00-NIB-0033—Pajama Pants, Mens, 5X-Large, Green.

NSN: 6532-00-NIB-0034—Pajamas, Mens, Komograph Stamped.

NPA: Central Association for the Blind & Visually Impaired, Utica, NY.

Contracting Activity: Department of Veterans Affairs, Hines, IL.

Coverage: C-list for the requirements of the Department of Veterans Affairs, Hines, IL.

Services

Service Type/Location: Custodial Services, Fort Custer Education Center, 2501 26th Street, Augusta, MI.

NPA: Navigations, Inc., Battle Creek, MI

Contracting Activity: Dept of the Army, Xraw8ac Miarng ElemenT, JF HQ.

Service Type/Location: BSC—USCG Seattle, WA, US Coast Guard, Seattle, WA, US Coast Guard Integrated Support Command.

NPA: The Lighthouse for the Blind, Inc. (Seattle Lighthouse), Seattle, WA.

Contracting Activity: U.S. Coast Guard, Department of Homeland Security, Seattle, WA.

Barry S. Lineback,
Director, Business Operations.

[FR Doc. E9-10774 Filed 5-7-09; 8:45 am]

BILLING CODE 6353-01-P